DEPARTMENT OF ENERGY

Federal Energy Regulatory Commission

Combined Notice of Filings #1

Take notice that the Commission received the following electric corporate filings:

Docket Numbers: EC22-115-000.

Applicants: MN8 Energy LLC.

Description: Joint Application for Authorization Under Section 203 of the Federal Power Act of MN8 Energy LLC, et al.

Filed Date: 8/30/22.

Accession Number: 20220830-5151.

Comment Date: 5 p.m. ET 9/20/22.

Take notice that the Commission received the following Complaints and Compliance filings in EL Dockets:

Docket Numbers: EL22-85-000.

Applicants: PJM Interconnection, L.L.C.

Description: ISO/RTO § 206 Filing: Section 206 Filing to Resolve Ambiguous Use of Designated Entity to be effective N/A.

Filed Date: 8/26/22.

Accession Number: 20220826-5142.

Comment Date: 5 p.m. ET 9/15/22.

Docket Numbers: EL22-86-000; QF03-76-004.

Applicants: Boyd, Michael E., Californians for Renewable Energy, Inc. (CARE), Michael E. Boyd, Doug Macmillan, William and Shona Leroy, Carmela and Rigoberto Garnica, and Charles Adams v. California Public Utilities Commission (CPUC).

Description: Californians for Renewable Energy Inc.(CARE), et al. submit Petition for Enforcement Pursuant to Section 210(H) of the Public Utility Regulatory Policies Act of 1978.

Filed Date: 8/26/22.

Accession Number: 20220826-5170.

Comment Date: 5 p.m. ET 9/16/22.

Take notice that the Commission received the following electric rate filings:

Docket Numbers: ER10-1186-013; ER10-1329-013; ER11-2731-006; ER11-3097-014; ER12-421-006; ER13-738-010.

Applicants: DTE Electric Company, Heritage Garden Wind Farm I, LLC, DTE Energy Trading, Inc., Heritage Stoney Corners Wind Farm I, LLC, St. Paul Cogeneration, LLC, DTE Energy Supply, LLC.

Description: Notice of Change in Status of DTE Energy Supply, LLC, et al.

Filed Date: 8/30/22.

Accession Number: 20220830-5150.

Comment Date: 5 p.m. ET 9/20/22.

Docket Numbers: ER10-2437-018.

Applicants: Arizona Public Service Company.

Description: Supplement to July 29, 2022 Notice of Change in Status of Arizona Public Service Company.

Filed Date: 8/30/22.

Accession Number: 20220830-5147.

Comment Date: 5 p.m. ET 9/20/22.

Docket Numbers: ER20-1977-002.

Applicants: Versant Power.

Description: Compliance filing: Offer of Settlement (ER20-1977-) to be effective N/A.

Filed Date: 8/31/22.

Accession Number: 20220831-5095.

Comment Date: 5 p.m. ET 9/21/22.

Docket Numbers: ER22-2747-000.

Applicants: WSPP Inc.

Description: § 205(d) Rate Filing: List of Members Update 2022 to be effective 8/26/2022.

Filed Date: 8/30/22.

Accession Number: 20220830-5120.

Comment Date: 5 p.m. ET 9/20/22.

Docket Numbers: ER22-2748-000.

Applicants: SunZia Transmission LLC.

Description: Petition for Waivers and Blanket Authorization under Section 204 of SunZia Transmission LLC.

Filed Date: 8/30/22.

Accession Number: 20220830-5146.

Comment Date: 5 p.m. ET 9/20/22.

Docket Numbers: ER22-2749-000.

Applicants: Southwest Power Pool, Inc.

Description: § 205(d) Rate Filing: Revisions to Add Surety Bonds as a Form of Financial Security to be effective 11/1/2022.

Filed Date: 8/31/22.

Accession Number: 20220831-5046.

Comment Date: 5 p.m. ET 9/21/22.

Docket Numbers: ER22-2750-000.

Applicants: Basin Electric Power Cooperative.

Description: Initial rate filing: Submission of Service Agreement Nos. 108 and 109 to be effective 8/31/2022.

Filed Date: 8/31/22.

Accession Number: 20220831-5081.

Comment Date: 5 p.m. ET 9/21/22.

Docket Numbers: ER22-2751-000.

Applicants: Mid-Atlantic Interstate Transmission, LLC, PJM Interconnection, L.L.C.

Description: § 205(d) Rate Filing: Mid-Atlantic Interstate Transmission, LLC submits tariff filing per 35.13(a)(2)(iii: MAIT submits Eight ECSAs, SA Nos. 6413-6420 to be effective 10/31/2022.

Filed Date: 8/31/22.

Accession Number: 20220831-5087.

Comment Date: 5 p.m. ET 9/21/22.

Docket Numbers: ER22-2752-000.

Applicants: Mid-Atlantic Interstate Transmission, LLC, PJM Interconnection, L.L.C.

Description: § 205(d) Rate Filing: Mid-Atlantic Interstate Transmission, LLC submits tariff filing per 35.13(a)(2)(iii: MAIT submits Eight ECSAs, SA Nos. 6483-6488, 6490 and 6491 to be effective 10/31/2022.

Filed Date: 8/31/22.

Accession Number: 20220831-5088.

Comment Date: 5 p.m. ET 9/21/22.

Docket Numbers: ER22-2753-000.

Applicants: NorthWestern Corporation.

Description: § 205(d) Rate Filing: RS No. 329—LGIA between Colstrip Transmission Owners and GB Energy Park LLC to be effective 8/22/2022.

Filed Date: 8/31/22.

Accession Number: 20220831-5121.

Comment Date: 5 p.m. ET 9/21/22.

Docket Numbers: ER22-2754-000.

Applicants: Duke Energy Florida, LLC.

Description: § 205(d) Rate Filing: DEF-SECI Reimbursement Agreement RS No. 354 to be effective 10/31/2022.

Filed Date: 8/31/22.

Accession Number: 20220831-5127.

Comment Date: 5 p.m. ET 9/21/22.

Docket Numbers: ER22-2755-000.

Applicants: PJM Interconnection, L.L.C.

Description: § 205(d) Rate Filing: Original ISA, SA No. 6575-Queue No. AD1-152; Cancellation of IISA, SA No. 6215 to be effective 8/2/2022.

Filed Date: 8/31/22.

Accession Number: 20220831-5132.

Comment Date: 5 p.m. ET 9/21/22.

Docket Numbers: ER22-2756-000.

Applicants: Invenergy Nelson LLC.

Description: Initial rate filing: Filing of Assignment, Co-Tenancy, and Shared Facilities Agreement to be effective 10/31/2022.

Accession Number: 20220831-5136.

Comment Date: 5 p.m. ET 9/21/22.

Docket Numbers: ER22-2757-000.

Applicants: Invenergy Nelson Expansion LLC.

Description: Initial rate filing: Filing of Assignment, Co-Tenancy, and Shared Facilities Agreement to be effective 10/31/2022.

Filed Date: 8/31/22.

Accession Number: 20220831-5137.

Comment Date: 5 p.m. ET 9/21/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 31, 2022.
Debbie-Anne A. Reese,
Deputy Secretary.

[FR Doc. 2022-19247 Filed 9-6-22; 8:45 am]

BILLING CODE 6717-01-P